DEPARTMENT OF THE INTERIOR

Office of the Secretary

Alaska Land Managers Forum

AGENCY: Office of the Secretary, Interior.

ACTION: Notice of meeting.

SUMMARY: This notice is published in accordance with section 10(a)(2) of the Federal Advisory Committee Act (FACA), 5 U.S.C. App. (1988) and 41 CFR 101-6.1015(b). The Department of the Interior hereby gives notice of a public meeting of the Alaska Land Managers Forum (ALMF) to be held on Thursday, August 29, 2002, beginning at 9:00 a.m. It will take place in Suite 240 of the Atwood Building, 550 W. 7th Avenue, Anchorage, Alaska. This meeting will be held to hear reports on and to discuss Trails Improvement Technology Techniques, ANCSA 17(b) Easement Inventory Update and Management Strategy, Navigability Initiatives; and to receive comments from the public.

FOR FURTHER INFORMATION CONTACT: Ronald B. McCoy at (907) 271-5485.

Ron McCoy,
Coordinator, Department of the Interior, Office of the Secretary—Alaska.

[FR Doc. 02-21105 Filed 8-19-02; 8:45 am]

BILLING CODE 4310-RP-P